DEPARTMENT OF HOMELAND SECURITY

Office of the Secretary

Welcome to the United States Survey

AGENCY: Office of the Secretary, Office of Policy, Private Sector Office, DHS.

ACTION: Emergency submission to OMB, comment request.

The Department of Homeland, Office of the Secretary, Private Sector Office has submitted the following (see below) information collection request (ICR), utilizing emergency review procedures, to the Office of Management and Budget (OMB) for review and clearance in accordance with the Paperwork Reduction Act of 1995 (Pub. L. 104-13, 44 U.S.C. chapter 35). OMB approval has been requested by July 30, 2006. A copy of this ICR, with applicable supporting documentation, may be obtained by calling the Departmental Clearance Officer.

Comments and questions about the ICR listed below should be forwarded to the Office of Information and Regulatory Affairs, Attn: OMB Desk Officer for the Department of Homeland Security, Office of Management and Budget, Room 10235, Washington, DC 20503 (OMB phone number). The Office of Management and Budget is particularly interested in comments which: [set asterisks]

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses. [end asterisks]

Agency: Department of Homeland Security, Office of the Secretary, Office of Policy, Private Sector Office.

Title: Welcome to the United States Survey.

OMB Number: 1601-NEW.

Frequency: One-time collection.

Affected Public: Foreign visitors into the U.S.

Number of Respondents: 939.

Estimated Time Per Respondent: 5 minutes.

Total Burden Hours: 78.25 hours.

Total Burden Cost (capital/startup): $0.00.

Total Burden Cost (operating/maintaining): $0.00.

Description: The Department of Homeland Security (DHS), Office of Policy, Private Sector Office in conjunction with Customs and Border Protection (CBP) and Research Triangle Institute, International, will interview foreign visitors entering the United States at four southern border ports of entry, three northern border ports of entry and four airport ports of entry before the Labor Day holiday in August 2006. This survey will measure how CBP is serving the American public with vigilance and integrity, while providing courteous and helpful treatment to visitors, immigrants and travelers. Additionally, this survey will further the Rice-Chertoff Initiative as has been announced by evaluating the two model airports (Dulles International Airport, Chantilly, VA, and Houston International Airport, Houston, TX) for baseline information as well as how welcomed foreign visitors feel upon entering the United States and interacting with a DHS Customs and Border Protection officer.

Scott Charbo,
Chief Information Officer.

[FR Doc. E6-11135 Filed 7-13-06; 8:45 am]

BILLING CODE 4410-10-P